DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Community Mental Health Centers (CMHC) Construction Grantee Checklist

(OMB No. 0930-0104, Extension, no change)—Recipients of Federal CMHC construction funds are obligated to use the constructed facilities to provide mental health services. The CMHS Act was repealed in 1981 except for the provision requiring grantees to continue using the facilities for mental health purposes for a 20-year period. In order for the Substance Abuse and Mental Health Services Administration's Center for Mental Health Services to monitor compliance of construction grantees the grantees are required to submit an annual report. This annual Checklist enables grantees to supply necessary information efficiently and with a minimum of burden. The following table summarizes the annual burden for this program.

| Annual respondents | Responses/ respondent | Hours per response | Annual burden
CMHS Grantee Construction Checklist [42 CFR 54.209(h), 42 CFR 54.213, 42 CFR 54.214] | ¹ 16 | 1 | .42 | 7
¹ Average over the 3-year approval period as grantees with service obligations continue to complete their period of obligation.

Written comments and recommendations concerning the proposed information collection should be sent within 30 days of this notice to: Stuart Shapiro, Human Resources and Housing Branch, Office of Management and Budget, New Executive Office Building, Room 10235, Washington, DC 20503.

Dated: April 18, 2001.
Richard Kopanda,
Executive Officer, SAMHSA.

[FR Doc. 01-10215 Filed 4-24-01; 8:45 am]

BILLING CODE 4162-20-P